ENVIRONMENTAL PROTECTION AGENCY

[FRL-7496-7]

Office of Environmental Information Draft Data Standard for Exchanging Permitting Information and Draft Data Standard for Federal Facility Identification

AGENCY: Environmental Protection Agency (EPA).

ACTION: Notice of information availability and request for comments.

SUMMARY: Notice of availability is hereby given for a 45-day public comment period for the draft data standards: Draft Data Standard for Permitting Information; and the Draft Federal Facility Identification Data Standard. These draft standards consist of a list of data elements, definitions for these elements, formats, notes, and explanatory preamble language. The draft standards were developed through the partnership efforts of States, tribes, and the U.S. Environmental Protection Agency participating in the Environmental Data Standards Council (EDSC). The EDSC convened one Action Team to develop a more comprehensive set of data elements to facilitate the sharing permit related information. The EDSC also formed an Action Team whose purpose was to reach consensus on standardized means of identifying facilities that are owned or operated, or were owned or operated, by the Federal government. The EPA and the EDSC invite comment on these standards from States, EPA, tribes, database managers in the public and private sectors, and the general public with interest in exchanging information concerning environmental permits and Federal facilities.

DATES: Comments must be submitted on or before June 23, 2003.

ADDRESSES: Comments may be submitted electronically, by mail, by facsimile, or through hand delivery/courier. Follow the detailed instructions as provided in Unit 1.A. of the SUPPLEMENTARY INFORMATION section.

FOR FURTHER INFORMATION CONTACT: Draft Data Standard for Permitting Information, Tim Crawford, Office of Environmental Information, Office of Information Collection, MC-2822T, U.S. Environmental Protection Agency, 1200 Pennsylvania Avenue, NW., Washington DC 20460; Telephone (202) 566-1652.

Draft Federal Facility Identification Data Standard, John Harman, Office of Environmental Information, Office of Information Collection, MC-2822T, U.S. Environmental Protection Agency, 1200 Pennsylvania Avenue, NW., Washington DC 20460; Telephone (202) 566 0748.

SUPPLEMENTARY INFORMATION:

I. General Information

A. How Can I Get Copies of These Draft Standards and Other Related Information ?

1. Docket. EPA has established an official public docket for this action under Docket ID No. OEI-2003-0028. The official public docket consists of the documents specifically referenced in this action, any public comments received, and other information related to this action. Although a part of the official docket, the public docket does not include Confidential Business Information (CBI) or other information whose disclosure is restricted by statute. The official public docket is the collection of materials that is available for public viewing at the Office of Environmental Information Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Office of Environmental Information Docket is (202) 566-1752.”

2. Electronic Access. You may access this Federal Register document electronically through the EPA Internet under the “Federal Register” listings at http://www.epa.gov/fedrgstr/. You may view and download the draft data standards and related explanatory material at the EDSC Web site at: http://www.epa.gov/edsc/ in the area of the site marked “Data Standards.” The draft data standards can also be viewed and downloaded at the EPA Environmental Data Registry (EDR) at http://www.epa.gov/edr/ in the area of the site marked “Data Standards”. Or for those with password access, at the WISER portion of the State/EPA Web site at: http://www.ecos.org/wiser.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.A.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

For additional information about EPA's electronic public docket visit EPA Dockets online or see 67 FR 38102, May 31, 2002.

B. How and To Whom Do I Submit Comments?

You may submit comments electronically, by mail, by facsimile, or through hand delivery/courier. To ensure proper receipt by EPA, identify the appropriate docket identification number in the subject line on the first page of your comment. Please ensure that your comments are submitted within the specified comment period. Comments received after the close of the comment period will be marked “late.” EPA is not required to consider these late comments, however, late comments may be considered if time permits.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in Docket ID No. OEI-2003-0028. The system is an “anonymous access” system, which means EPA will not know your identity, e-mail address, or other contact information unless you provide it in the body of your comment.

ii. E-mail. Comments may be sent by electronic mail (e-mail) to oei.docket@epa.gov, Attention Docket ID No. OEI-2003-0028. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.B.2. These electronic submissions will be accepted in WordPerfect or ASCII file format. Avoid the use of special characters and any form of encryption.

2. By Mail. Send three copies of your comments to: Office of Environmental Information Docket, Environmental Protection Agency, Mailcode: 28221T, 1200 Pennsylvania Ave., NW., Washington, DC, 20460, Attention Docket ID No. OEI-2003-0028.

3. By Hand Delivery or Courier. Deliver your comments to the location provided in Unit I.A.1, Attention Docket ID No. OEI-2003-0028. Such deliveries are only accepted during the Docket's normal hours of operation as identified in Unit I.A.1.

4. By Facsimile. Fax your comments to: (202) 566-1753, Attention Docket ID. No. OEI-2003-0028.

C. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

II. Background: Environmental Data Standards Council

Data sharing has become an increasingly important aspect of sound environmental management. States, Tribes, and EPA together face the critical challenge of sharing information among themselves and with their respective stakeholders and public. Fundamental to the seamless exchange of data are data standards. Data standards help improve the ability of partners (internal and external) to exchange data efficiently and accurately, and also assist secondary users of data to understand, interpret, and use data appropriately. Recognition of the need for EPA, States and Tribes to develop and agree upon data standards for environmental information sharing has lead to the creation of the EDSC. Data standards are documented agreements on formats and definitions of data elements. The EDSC agrees to develop data standards only when there is a strong environmental management business reason that would benefit from establishing a consistency in information exchanged.

These draft standards were delivered to the EDSC and approved for publication in the Federal Register for a 45-day public comment period. After the comment period announced in this Notice is complete, the EDSC and its Action Teams will review comments received and make appropriate modifications. The EDSC will then consider approval of these data standards as appropriate. EDSC approval does not bind an individual agency to using a standard. It will be up to the individual or programs to determine if, when, and how it might use a standard developed under the auspices of the EDSC. It is the intent of EPA to adopt and implement the consistent use of EDSC-approved standards in its information systems and programs.

III. Background of Draft Data Standards

A. Draft Data Standard Permit Related Information

The EDSC is proposing to adopt a revision to the original Permitting Data Standard that was approved in April 2002. The original exchange standard for permit related information identified those data elements that are generally believed to be universally applicable to the identification and tracking of permits. While standard terms, definitions and formats for these types of data were needed, it was subsequently recognized that other information that is also common to multiple permitting programs exists and should be included in the same standard rather than duplicate similar information in separate data standards. As a result, the revised draft permitting data standard incorporates the original permitting data standard and extends the original scope to include information germane to multiple permitting programs.

The draft Permitting Information Data Standard consists of data elements from the original Permit Data Standard organized by the categories or data blocks: Permit Identification, Permitted Feature, and Permit Administration. The revised draft standard also includes data elements under the data blocks: Facility/Feature Characteristic, Control Methodology, Permit Condition, Reporting Condition, and Monitoring Condition. These additional data blocks provide data elements that can be used to describe the functional aspects of a facility or feature, as well as the constraints imposed by a permit including any monitoring or reporting requirements. The Action Team determined that additional permit related information will likely require program-specific permit standards.

B. Draft Federal Facility Identification Data Standard

The EDSC is proposing a Data Standard for the identification of facilities that are owned or operated, or were owned or operated, by the Federal Government. This draft Federal Facility Identification Data Standard builds on the Facility Identification Data Standard by focusing on identification issues for a specific type of facility.

Several EPA offices have specific programs that focus on issues related to Federal facilities. Other EPA programs use naming conventions to identify Federal facilities separately from other types of facilities. The reporting forms for certain EPA programs include data elements that ask facilities to indicate whether they are owned or operated by the Federal government.

Federal facilities are a diverse class, having functions that typically are different from other privately owned and operated facilities, thus potentially posing unique types of environmental concerns. Federal facilities conduct activities ranging from launching space shuttles to managing national parks. Tracking ownership or operation of a site over time is also important because certain former Federal sites can have legacy issues, such as spent munitions at former Department of Defense sites.

The Draft Federal Facility Identification Data Standard includes the three categories of data elements, or data blocks: Federal Facility Identification Information; Federal Facility Ownership and/or Operation Information; and Federal Facility Responsible Party Information. The Federal Facility Ownership and/or Operation Information category provides a means of indicating the present ownership or operation of a facility that once was a Federal facility. An example is a local airport that formerly was an Air Force base. The Federal Facility Responsible Party Information category provides standardized naming conventions for the Federal agencies that own or operate a particular Federal facility and for the classification of the ownership/operation of a Federal facility.

An ancillary, but supportive goal, of the Draft Federal Facility Identification Data Standard is to serve as a guide for identifying facilities owned or operated by non-Federal governments, such as States, tribes, counties or municipalities. States and tribes may choose to adopt the permissible values and follow similar naming conventions when tracking non-Federal government facilities.

IV. Future Revisions

EDSC standards are periodically reviewed and revised as recommended by the EDSC or the stewards of the respective data standards. The most current standards will be posted at www.edsc.org and www.epa.gov/edr.

V. Review of Draft Standards to Date

These draft standards have received significant input through the representatives from EPA programs, States, and tribal organizations serving on the Action Teams and consulted though the development of the draft standard. EDSC members have also reviewed and recommended these draft standards for this public comment process.

Dated: April 24, 2003.
Mark Luttner,
Director, Office of Information Collection, Office of Environmental Information.

[FR Doc. 03-11631 Filed 5-8-03; 8:45 am]

BILLING CODE 6560-50-P